DEPARTMENT OF THE INTERIOR

National Park Service

[NPS-WASO-NAGPRA-NPS0040020; PPWOCRADN0-PCU00RP14.R50000]

Notice of Intended Repatriation: California State University, Los Angeles, Los Angeles, CA

AGENCY: National Park Service, Interior.

ACTION: Notice.

SUMMARY: In accordance with the Native American Graves Protection and Repatriation Act (NAGPRA), the California State University, Los Angeles intends to repatriate a certain cultural item that meets the definition of an object of cultural patrimony and that has a cultural affiliation with the Indian Tribes or Native Hawaiian organizations in this notice.

DATES: Repatriation of the cultural item in this notice may occur on or after May 30, 2025.

ADDRESSES: Gregorio Pacheco, California State University, Los Angeles, 5151 State University Drive, Los Angeles, CA 90032, telephone (323) 343-2002, email gpache15@calstatela.edu.

SUPPLEMENTARY INFORMATION: This notice is published as part of the National Park Service's administrative responsibilities under NAGPRA. The determinations in this notice are the sole responsibility of the California State University Los Angeles, and additional information on the determinations in this notice, including the results of consultation, can be found in the summary or related records. The National Park Service is not responsible for the determinations in this notice.

Abstract of Information Available

A total of one cultural item has been requested for repatriation. The one object of cultural patrimony is a willow conical basket with a leather tip. Despite an exhaustive search of available records, no documentation has been found regarding its geographical origin, collection history, acquisition details, or other relevant information about the basket. As a result, we consulted with Dr. Jan Timbrook, a basketry specialist, to examine the object. Dr. Timbrook provided her expertise to help identify potential culturally affiliated Tribes based on the basket's style, type, and materials. She concluded that the willow conical basket with a leather tip may have originated from the Arizona region and could be associated with either the Havasupai or Paiute Tribes.

Determinations

California State University, Los Angeles has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Havasupai Tribe of the Havasupai Reservation, Arizona.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after May 30, 2025. If competing requests for repatriation are received, the California State University Los Angeles must determine the most appropriate requestor prior to repatriation. Requests for joint repatriation of the cultural item are considered a single request and not competing requests. The California State University Los Angeles is responsible for sending a copy of this notice to the Indian Tribes and Native Hawaiian organizations identified in this notice and to any other consulting parties.

Authority: Native American Graves Protection and Repatriation Act, 25 U.S.C. 3004 and the implementing regulations, 43 CFR 10.9.

Dated: April 15, 2025.
Melanie O'Brien,
Manager, National NAGPRA Program.

[FR Doc. 2025-07421 Filed 4-29-25; 8:45 am]

BILLING CODE 4312-52-P